DEPARTMENT OF HEALTH AND HUMAN SERVICES

Health Resources and Services Administration

Small Rural Hospital Improvement Grant Program

AGENCY: Health Resources and Services Administration (HRSA), HHS.

ACTION: Notice of availability of funds.

SUMMARY: The Health Resources and Services Administration (HRSA) announces that applications are being accepted for grants to small rural hospitals to help them do any or all of the following: (1) Pay for costs related to the implementation of prospective payment systems (PPS), (2) comply with provisions of the Health Insurance Portability and Accountability Act (HIPAA) of 1996, and (3) reduce medical errors and support quality improvement.

Name of Grant Program: Small Rural Hospital Improvement Grant Program.

Program Authorization: Section 1820(g)(3) of the Social Security Act and the Departments of Labor, HHS, Education and Related Agencies Appropriations Act of 2002 (Pub. L.107-116).

Amount of Funding Available: Approximately $15.0 million will be available for grants in fiscal year 2002.

Eligible Applicants: All small rural hospitals located in the fifty States and Territories, including faith-based hospitals. For the purpose of this program, (1) small is defined as 49 available beds or less, as reported on the hospital's most recently filed Medicare Cost Report, (2) rural is defined as located outside a Metropolitan Statistical Area (MSA) or located in a rural census tract of a MSA as determined under the Goldsmith Modification, and (3) hospital is defined as a non-Federal, short-term, general acute care facility. A list of eligible hospitals, approximately 1265, can be found at http://www.ruralhealth.hrsa.gov/ship.htm.

Funding Criteria: To help facilitate the awards process, eligible hospitals are asked to submit a brief letter of application to their State Office of Rural Health (SORH) that describes their need, and intended use and expenditure of grant funds. In turn, the SORH will prepare and submit a single grant application (PHS Form 5161) to HRSA on behalf of all hospital applicants. An award will be made to each State based on the total number of applicants in that State. Grantee hospitals will receive their award from the SORH. If a State chooses not to join in this Federal-State partnership, eligible hospitals may submit a grant application (PHS Form 5161) directly to HRSA.

It is anticipated that all eligible hospitals will apply for this grant program, which would result in awards of about $11,000 per hospital. It is expected that most of these grant funds will be used to purchase technical assistance, services, training and information technology. To help maximize purchasing power through economies of scale, eligible grantees are strongly encouraged to organize themselves into consortiums and pool their grant funds for the purchase of these services. SORHs may help their eligible hospitals form consortiums and also purchase the goods and services they need.

Funding will be available for a single year followed by yearly renewals, with funding contingent upon: (a) availability of Federal funds, and (b) satisfactory performance by the grantee. The SORH may charge up to five percent to the grants to cover its administrative costs.

Review Criteria: Applications will be evaluated on the extent to which they: (1) Are responsive to the requirements and purposes of this program, (2) describe need and strategies to address those needs, and (3) propose an allowable use of the grant funds. Further description of the review criteria is contained in the program guidance.

Requesting Applications: The application and program guidance may be downloaded via the Web at http://www.ruralhealth.hrsa.gov/ship.htm. Hard copies of the application and program guidance are available from: HRSA Grants Application Center, Grants Management Officer, 901 Russell Avenue, Suite 450, Gaithersburg, MD 20879. Phone (877) 477-2123, e-mail hrsagac@hrsa.gov. Request CFDA #93.301.

Submitting Applications: All hospital applications must be submitted to the appropriate SORH in hard copy and postmarked before 5 PM EDT on June 21, 2002. All SORH applications must be submitted in hard copy and postmarked before 5 PM EDT on July 19, 2002 to the HRSA Grants Application Center, Grants Management Officer, 901 Russell Avenue, Suite 450, Gaithersburg, MD 20879.

Program Contact Person: Jerry Coopey, Office of Rural Health Policy, HRSA, Rm. 9A-55, Parklawn Bldg, 5600 Fishers Lane, Rockville, MD 20857. Phone (301) 443-0835, Fax (301) 443-2803, e-mail jcoopey@hrsa.gov

Paperwork Reduction Act: The application for this grant program has been approved by the Office of Management and Budget (OMB) under the Paperwork Reduction Act. The OMB clearance number is 0925-0001.

The OMB Catalog of Federal Domestic Assistance number is 93.301.

This program is not subject to the Public Health Systems Reporting Requirements.

Executive Order 12372: This program has been determined to be a program that is subject to the provisions of Executive Order 12372 concerning intergovernmental review of Federal Programs by appropriate health planning agencies, as implemented by 45 CFR part 100. Executive Order 12372 allows States the option of setting up a system for reviewing applications from within their States for assistance under certain Federal programs. The application packages to be made available under this notice will contain a listing of States that have chosen to set up such a review system and will provide a single point of contact (SPOC) in the States for review. Applicants (other than federally-recognized Indian tribal governments) should contact their State SPOC as early as possible to alert them to the prospective applications and receive any necessary instructions on the State process. For proposed projects serving more than one State, the applicant is advised to contact the SPOC of each affected State. The due date for State process recommendations is 60 days after the application deadline for new and competing awards. The granting agency does not guarantee to “accommodate or explain” State process recommendations it receives after that date. (See Executive Order 12372 and 45 CFR part 100 for a description of the review process and requirements.)

Dated: May 14, 2002.
Elizabeth M. Duke,
Administrator.

[FR Doc. 02-14166 Filed 6-4-02; 8:45 am]

BILLING CODE 4165-15-P